ENVIRONMENTAL PROTECTION AGENCY

[ER-FRL-6619-9]

Environmental Impact Statements and Regulations; Availability of EPA Comments

Availability of EPA comments prepared June 04, 2001 through June 08, 2001 pursuant to the Environmental Review Process (ERP), under Section 309 of the Clean Air Act and Section 102(2)(c) of the National Environmental Policy Act as amended. Requests for copies of EPA comments can be directed to the Office of Federal Activities at (202) 564-7167. An explanation of the ratings assigned to draft environmental impact statements (EISs) was published in FR dated April 14, 2000 (65 FR 20157).

Draft EISs

ERP No. D-AFS-J65337-MT Rating EC2, Cave Gulch Post-Fire Salvage Sale, Harvesting Dead or Dying Trees, Implementation, Helena National Forest, Big Belts Mountain, Lewis and Clark Counties, MT.

Summary: EPA expressed concerns about adverse effects of timber harvest on water quality. EPA indicated that harvest methods and mitigation measures should avoid and minimize further adverse impacts to fire stressed water bodies and recommended additional mitigation, and monitoring to detect effects on water quality.

ERP No. D-AFS-L65232-OR Rating EC2, Deep Vegetation Management Project, Implementation, Ochoco National Forest, Paulina Ranger District, Crook and Wheeler Counties, OR.

Summary: EPA expressed concerns about possible impacts to air and water quality, the limited information on cumulative impacts, and the limited range of alternatives. EPA requests that the final EIS discuss these potential impacts in greater detail.

ERP No. D-AFS-L65369-00 Rating EC2, Boise National Forest, Payette National Forest and Sawtooth National Forest, Forest Plan Revision, Implementation, Southwest Idaho Ecogroup, several counties, ID, Malhaur County, OR and Box Elder County, UT.

Summary: EPA expressed environmental concerns regarding air and water quality impacts and with the discussion regarding alternatives and cumulative impacts.

ERP No. D-BOP-K81025-CA Rating LO, Fresno Federal Correctional Facility Development, Orange Cove, Fresno County, CA.

Summary: EPA had no objections to the project.

ERP No. DS-DOE-A06181-00 Rating EC2, Geologic Repository for the Disposal of Spent Nuclear Fuel and High-Level Radioactive Waste, Construction, Operation, Monitoring and Eventually Closing a Geologic Repository at Yucca Mountain, Updated and Additional Information, Nye County, NV.

Summary: The Supplement updates information about the repository design, but because of its limited scope, the Supplement does not address most of the comments EPA had on the draft EIS. EPA therefore continues to have environmental concerns with the project. EPA also requests additional information to clarify information presented in the Supplement.

ERP No. D1-AFS-J65250-CO Rating LO, Forest Development Trail (FDT) 1135 (Arapaho Ridge Trail), Forest Development Road (FDR) 711.1 and FDR 711.1A Motorized or Non-Motorized Determination and Trailhead Parking Areas Creation at both ends of the Trail, Routt National Forest, Jackson County, CO.

Summary: EPA expressed a lack of objections with the preferred alternative.

Final EISs

ERP No. F-AFS-J65322-MT, Spar and Lake Subunits Forest Health Project, Improvements, Kootenai National Forest, Three Rivers Ranger District, Lincoln County, MT.

Summary: EPA expressed environmental concerns about the lack of information on aquatics monitoring and weed control chemicals to be used in the project area.

ERP No. F-RUS-E39053-KY, Jackson County Lake Project, Implementation, To Provide Adequate Water Supplies for the Projected Residential, Commercial and Industrial Needs, Funding and Possible COE Section 10 and 404 Permits, Jackson County, KY.

Summary: EPA's original environmental concerns remain, especially since other water supply options can address purpose/need goals with lesser adverse (long-term) water quality impacts.

Dated: July 10, 2001.
B. Katherine Biggs,
Associate Director, NEPA Compliance Division, Office of Federal Activities.

[FR Doc. 01-17628 Filed 7-12-01; 8:45 am]

BILLING CODE 6560-50-P